DEPARTMENT OF TRANSPORTATION

Federal Highway Administration

Environmental Impact Statement: Suffolk County, NY

AGENCY: Federal Highway Administration (FHWA), DOT.

ACTION: Notice of intent.

SUMMARY: The FHWA is issuing this Notice to advise the public that an Environmental Impact Statement (EIS) will be prepared for the development of the Long Island Rail-Truck Intermodal Facility (LIRTIF) on a portion of the Pilgrim State Hospital property, located in the Town of Islip, Suffolk County, New York.

FOR FURTHER INFORMATION CONTACT: Robert Arnold, Division Administrator, Federal Highway Administration, New York Division, Leo W. O'Brien Federal Building, 7th Floor, Clinton Avenue and North Pearl Street, Albany, New York 12207, Telephone: 518-431-4125 or, Subimal Chakraborti, P.E., Regional Director, New York State Department of Transportation, Region 10, State Office Building, 250 Veterans Memorial Highway, Hauppauge, NY 11788, Telephone: 631-952-6632.

SUPPLEMENTARY INFORMATION: The FHWA, in cooperation with the New York State Department of Transportation (NYSDOT), will prepare an EIS that will study and document the proposed development of the LIRTIF (Project Identification Number 0339.12). An overview of the need for the project and the environmental process to be followed is provided below.

Long Island is one of the nation's largest consumer markets, with its population of over 2.4 million expected to increase to over 3 million in the next 25 years. Freight movement on Long Island is currently handled almost exclusively by truck, with roughly 1% of freight (by tonnage) handled by rail compared to a national average of over 15%. The development of the LIRTIF would improve the efficiency of freight service, generate economic benefit, reduce Long Island's dependence on truck freight and improve site access. The Pilgrim site was determined to be the best of the possible locations based on its (1) accessibility to the Long Island Expressway; (2) central location near the core of Long Island's main developed areas; (3) direct access to the Long Island Rail Road; and (4) available parcel size of roughly 120 acres, which provides sufficient space to meet potential intermodal freight demand.

The intent of the LIRTIF EIS is to develop a feasible design and operating plan for an intermodal freight facility at the project site, disclose any potentially significant adverse impacts associated with the project's construction or operation, and identify and assess the effectiveness of measures to mitigate such impacts. The EIS will consider all reasonable alternative designs and configurations to meet the need for a modern, efficient intermodal facility that will mitigate and reduce any adverse impacts. During the public scoping process, based on input from other agencies, elected officials, community and business groups and the general public, reasonable alternatives will be developed and screened for their ability to meet the project's needs and objectives and to determine the scope of issues to be addressed. The feasible alternatives will be evaluated in detail in the Draft EIS (DEIS).

Options to be considered as part of the EIS are a No Build alternative, with no changes made at the site, and various Build alternatives. In defining the various Build alternatives, factors to be considered include various site configurations to provide the required bulk, intermodal and specialty shipment operations combined with different truck access routes from the site to the Long Island Expressway. Options being considered for access to the site include (a) the local roadways that currently allow truck traffic, (b) creating direct connections to the adjacent Sagtikos State Parkway, and (c) developing a direct connector road to the Long Island Expressway within the Sagtikos State Parkway right-of-way.

Rail access to the facility is expected to be along the existing spur from the LIRR, with a number of alignment variations to be considered within the existing rail corridor directly south of the project site.

The EIS will assess the potential for the proposed project alternatives to have a significant adverse impact in a wide range of socioeconomic, transportation and environmental impact areas, include traffic and transit operations, noise and air quality, water quality, terrestrial ecology and wetlands, hazardous waste and visual resources, land use and neighborhood character, cultural and historic resources, and community facilities and services, including parkland. These studies will focus primarily on the project site and the immediately surrounding communities.

The formal scoping process will involve the following:

1. A Public Scoping Meeting, to be held on June 30, 2004 to provide the public with information about the project, and to assist in formulating the scope of the environmental studies in the EIS. NYSDOT will provide information about the project and the scope of the EIS. Comments on the project and on the scope of the EIS will then be received from the public. NYSDOT personnel and project team members will be available at the meeting to answer questions. The public scoping meeting will be at:

Date & Time: June 30, 2004, 4 p.m.-8 p.m.

Location: Brentwood North Middle School, 350 Wicks Road, Brentwood, NY 11717

This meeting will be run in an informal, open-house style and will allow the general public the opportunity to make comments both in writing and in person.

2. Scoping discussions with other agencies, particularly those with a direct or indirect involvement in the proposed project, the project area and the rail corridor serving the project site.

Scoping Letters describing the proposed action and soliciting comments will be sent to appropriate Federal, State, and local agencies, and to private organizations and citizens who may have interest in this project.

The LIRTIF EIS will include an extensive public involvement process to maximize the opportunities for interested stakeholders to find out about the project, to follow its progress through the DEIS process, and to comment on issues of concern. A key part of the public involvement process will be the distribution of the DEIS for public and agency review and comment, including a DEIS public hearing to obtain comments on the project and the conclusions presented in that document. Public notice will be given of the time and place of that hearing.

Throughout the scoping process, comments and suggestions are invited on the scope of issues to be addressed and the proposed LIRTIF project from any interested parties. Comments or questions concerning this proposed action and the EIS should be directed to NYSDOT or FHWA at the addresses provided above. Comments can also be faxed to Thomas Daley, P.E., NYSDOT, at 631-952-6569.

(Catalogue of Federal Domestic Assistance Program Number 20.205, Highway Research Planning and Construction. The regulations implementing Executive Order 12372, which foster State and local government coordination and review of proposed Federal financial assistance and direct Federal development, apply to this program).

Authority: 23 U.S.C. 315; 23 CFR 771.123.

Issued on: May 25, 2004.
Douglas P. Conlan,
District Operations Engineer, Federal Highway Administration, New York Division, Albany, NY.

[FR Doc. 04-13166 Filed 6-9-04; 8:45 am]

BILLING CODE 4910-22-M